SMALL BUSINESS ADMINISTRATION

[Disaster Declaration #16012 and #16013; Oglala Sioux Tribe of the Pine Ridge Reservation Disaster Number SD-00094]

Presidential Declaration of a Major Disaster for Public Assistance Only for the Oglala Sioux Tribe of the Pine Ridge Reservation of South Dakota

AGENCY: U.S. Small Business Administration.

ACTION: Notice.

SUMMARY: This is a Notice of the Presidential declaration of a major disaster for Public Assistance Only for Oglala Sioux Tribe of the Pine Ridge Reservation of South Dakota (FEMA-4448-DR), dated 06/20/2019.

Incident: Severe Winter Storm, Snowstorm, and Flooding.

Incident Period: 03/13/2019 through 03/26/2019.

DATES: Issued on 06/20/2019.

Physical Loan Application Deadline Date: 08/19/2019.

Economic Injury (EIDL) Loan Application Deadline Date: 03/20/2020.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW, Suite 6050, Washington, DC 20416, (202) 205-6734.

SUPPLEMENTARY INFORMATION: Notice is hereby given that as a result of the President's major disaster declaration on 06/20/2019, Private Non-Profit organizations that provide essential services of a governmental nature may file disaster loan applications at the address listed above or other locally announced locations.

The following areas have been determined to be adversely affected by the disaster:

Primary Counties: Oglala Sioux Tribe of the Pine Ridge Reservation.

The Interest Rates are:

| Percent
For Physical Damage:
Non-Profit Organizations With Credit Available Elsewhere | 2.750
Non-Profit Organizations Without Credit Available Elsewhere | 2.750
For Economic Injury:
Non-Profit Organizations Without Credit Available Elsewhere | 2.750

The number assigned to this disaster for physical damage is 16012B and for economic injury is 160130.

(Catalog of Federal Domestic Assistance Number 59008)

Cynthia Pitts,
Acting Associate Administrator for Disaster Assistance.

[FR Doc. 2019-13709 Filed 6-26-19; 8:45 am]

BILLING CODE 8206-03-P